DEPARTMENT OF HOMELAND SECURITY

Directorate of Science and Technology; Notice Designating Homeland Security Centers of Excellence

AGENCY: Science and Technology Directorate, Department of Homeland Security.

ACTION: Notice.

SUMMARY: The Department of Homeland Security is designating lead universities as Department of Homeland Security Centers of Excellence.

DATES: The designation made in this Notice is effective on January 24, 2005.

FOR FURTHER INFORMATION CONTACT: Laura Petonito, Deputy Director, University Programs, Science and Technology Directorate, Department of Homeland Security, Washington, DC 20528; telephone 202-254-5840, facsimile 202-254-6165; e-mail laura.petonito@dhs.gov.

SUPPLEMENTARY INFORMATION:

Background

Section 308 of the Homeland Security Act of 2002, Pub. L. 107-296, 116 Stat. 2170 (Nov. 26, 2002) (HSA) (6 U.S.C. 188), as amended by the Consolidated Appropriations Resolution, 2003, Pub. L. 108-7, div. L, § 101(1), 117 Stat. 526 (Feb. 20, 2003), directs the Secretary of Homeland Security to sponsor extramural research, development, demonstration, testing and evaluation programs relating to homeland security. As part of this program, the Department of Homeland Security (DHS) is to establish a university-based center or centers for homeland security (Homeland Security Centers of Excellence or Centers).

The Centers are envisioned to be an integral and critical component of the Department's capability to anticipate, prevent, respond to, and recover from terrorist attacks. The Centers will leverage multidisciplinary capabilities of universities and fill gaps in current knowledge.

Section 308(b)(2)(B) of the HSA lists fourteen areas of substantive expertise that, if demonstrated, might qualify universities for designation as university-based centers. The listed areas of expertise include, among others, food safety, first responders, multi-modal transportation, and responding to incidents involving weapons of mass destruction. However, the list is not exclusive. Section 308(b)(2)(C) of the HSA gives the Secretary discretion to consider additional criteria beyond those specified in section 308(b)(2)(B) in selecting universities for this program, as long as the Department issues a Federal Register notice explaining the criteria used for the designation.

The Secretary has previously designated three other Centers: (1) University of Southern California—Center for Risks and Economic Analysis of Terrorism Events; (2) University of Minnesota—National Center for Food Protection and Defense; and (3) Texas A&M University—National Center for Foreign Animal and Zoonotic Disease Defense. The designation of only one of these Centers was noticed in the Federal Register due to the use of other criteria than established in section 308 of the HSA. See 68 FR 66842 (Nov. 28, 2003).

Criteria

In 2002, the National Research Council (NRC) issued a report entitled “Making the Nation Safer: The Role of Science and Technology in Countering Terrorism.” In this report, the NRC recommended a number of substantive areas for research that could contribute to national security. Among other areas, the NRC report focused on how studying the phenomenon of terrorism from a social and behavioral perspective could help to interpret fragments of intelligence information, to broaden understanding of terrorists' modes of actions, and perhaps ultimately assist the Department in figuring out how to curtail such actions.

The Department agrees that research in these areas will contribute significantly to the Department's ability to identify, and select among, options for enhancing national security. The behavioral and social sciences can provide knowledge of and insights into the responses of individuals and organizations to the threat of terrorism and to terrorist events. Through such research and educational strategies, a broad base of understanding will likely develop leading to models for intervention of terrorist activities as well as resiliency strategies for the United States homeland society.

Solicitation of Interest and Designation

The DHS Centers are envisioned to be an integral and critical component of the new “homeland security complex” that will provide the Nation with a robust, dedicated and enduring capability that will enhance our ability to anticipate, prevent, respond to, and recover from terrorist attacks. On July 6, 2004, DHS sought proposals from universities that wished to be designated as the DHS Center of Excellence on Behavioral and Social Aspects of Terrorism and Counter-terrorism. The notice, made available on Federal Business Opportunities (http://www.fedbizopps.gov/) and http://www.grants.gov, identified behavioral and social aspects of terrorism as one of the key areas of expertise needed by DHS. The focus of research and education will be in areas of the individual and social factors in persuasion and recruitment for participation in terrorist activities and development of intervention strategies, individual and group behaviors and dynamics, preparation and resilience of individuals and groups and cognition of information.

DHS received 27 proposals and evaluated them through a peer-review panel process that included scientific expertise from the federal government, peer-institutional faculty and the private sector. After analysis of the panel evaluations, six sites were chosen for further evaluation in the form of site visits. Based on this evaluation, the selection team recommended that the fourth Center of Excellence, specifically concentrating on behavioral and social aspects of terrorism, be sited at the University of Maryland.

The University of Maryland, with partners at the University of California at Los Angeles, the University of Colorado, the Monterey Institute of International Studies, the University of Pennsylvania, the University of South Carolina and a host of individual scientists from other numerous institutions, will conduct research and education on the subjects of behavioral and social aspects of terrorism and counter-terrorism. This site is particularly positioned to investigate the social and psychological impacts of terrorism. Through the engagement of its partners and a few of the scientists in the other established Centers of Excellence, the University of Maryland will embark on research and education concerning individual terrorists, the dynamics of terrorist organizations, and societal impact of terrorism on the United States. The goals of this research and education are to provide strategies for the disruption of terrorists and terrorist organizations and to embolden the resilience of United States citizens. Thus, these strategies embracing awareness and anticipation to response and recovery to terrorism and counter-terrorism will be examined.

Designation. Accordingly, the University of Maryland has been designated as a Homeland Security Center of Excellence on Behavioral and Social Aspects of Terrorism and Counter-terrorism pursuant to section 308 of the Homeland Security Act of 2002, as amended.

Dated: January 13, 2005.
Tom Ridge,
Secretary.

[FR Doc. 05-1242 Filed 1-21-05; 8:45 am]

BILLING CODE 4410-10-P